DEPARTMENT OF COMMERCE

Membership of the Office of the Secretary Performance Review Board

AGENCY: Department of Commerce.

ACTION: Notice of membership on the Office of the Secretary Performance Review Board.

SUMMARY: In accordance with 5 U.S.C. 4314(c)(4), DOC announces the appointment of persons to serve as members of the Office of the Secretary (OS) Performance Review Board (PRB). The OS/PRB is responsible for reviewing performance appraisals and ratings of Senior Executive Service (SES) members. The appointment of these members to the OS/PRB will be for a period of 24 months.

DATES: The effective date of service of appointees to the Office of the Secretary Performance Review Board is upon publication of this notice.

FOR FURTHER INFORMATION CONTACT: Mary King, Director, Office of Executive Resources, Office of Human Resources Management, Office of the Director, 14th and Constitution Avenue, NW., Washington, DC 20230, (202) 482-3321.

SUPPLEMENTARY INFORMATION: The names, position titles, and type of appointment of the members of the OS/PRB are set forth below by organization:

Department of Commerce, Office of the Secretary, 2005-2007, Performance Review Board Membership

Office of the Secretary

Fred L. Schwien, Director, Executive Secretariat; David S. Bohigian, Deputy Director, Office of Policy and Strategic Planning; Richard Yamamoto, Director, Office of Security (Alternate).

Office of Assistant Secretary for Administration

Lisa Casias, Deputy Director for Financial Policy.

Economic Development Administration

Mary Pleffner, Deputy Assistant Secretary for Management Services and CFO.

National Oceanic and Atmospheric Administration

John E. Jones, Jr., Deputy Assistant Administrator for Weather Services.

Dated: October 5, 2005.
Mary King,
Director, Office of Executive Resources.

[FR Doc. 05-20348 Filed 10-7-05; 8:45 am]

BILLING CODE 3510-B5-M